DEPARTMENT OF TRANSPORTATION

Federal Railroad Administration

[Docket No. FRA-2013-0002-N-19]

Proposed Agency Information Collection Activities; Comment Request

AGENCY: Federal Railroad Administration (FRA), United States Department of Transportation (USDOT).

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than November 15, 2013.

ADDRESSES: Submit written comments on any or all of the following proposed activities by mail to either: Mr. Robert Brogan, Office of Safety, Planning and Evaluation Division, RRS-21, Federal Railroad Administration, 1200 New Jersey Ave. SE., Mail Stop 17, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number ____.” Alternatively, comments may be transmitted via facsimile to (202) 493-6216 or (202) 493-6497, or via email to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 17, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR Part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

Title: Accident/Incident Reporting and Recordkeeping.

OMB Control Number: 2130-0500.

Abstract: The collection of information is due to the railroad accident reporting regulations set forth in 49 CFR Part 225 which require railroads to submit monthly reports summarizing collisions, derailments, and certain other accidents/incidents involving damages above a periodically revised dollar threshold, as well as certain injuries to passengers, employees, and other persons on railroad property. Because the reporting requirements and the information needed regarding each category of accident/incident are unique, a different form is used for each category.

Form Number(s): FRA F 6180.39i; 54; 55; 55A; 56; 57; 78; 81; 97; 98; 99;107; 150.

Affected Public: Businesses.

Respondent Universe: 763 railroads.

Frequency of Submission: On occasion.

Reporting Burden
CFR Section | Respondent universe | Total annual responses | Average time per response | Total annual burden hours
225.6—Consolidated Reporting—Request to FRA by Parent Corporation to treat its Commonly Controlled Carriers as a Single Railroad Carrier for Purposes of this Part | 763 railroads | 4 requests | 40 hours | 160
—Written Agreement by Parent Corporation with FRA on Specific Subsidiaries Included in Its Railroad System | 763 railroads | 4 agreements | 2 hours | 8
—Notification by Parent Corporation Regarding Any Change in the Subsidiaries Making Up Its Railroad System and Amended Written Agreement with FRA | 763 railroads | 1 notification + 1 amended agreement | 60 minutes | 2
225.9—Telephone Reports of Certain Accidents/Incidents and Other Events | 763 railroads | 3,300 phone reports | 15 minutes | 825
225.11—Reporting of Rail Equipment Accidents/Incidents—Form FRA F 6180.54 | 763 railroads | 3,600 forms | 2 hours | 7,200
225.12—Rail Equipment Accident/Incident Reports Alleging Human Factor as Cause—Form FRA F 6180.81 | 763 railroads | 1,600 forms | 15 minutes | 400
—Part I Form FRA F 6180.78 (Notices) | 763 railroads | 1,000 notices + 4,000 copies | 10 minutes + 3 minutes | 367
—Joint Operations | 763 railroads | 100 requests | 20 minutes | 33
—Late Identification | 763 railroads | 20 attachments + 20 notices | 15 MINUTES | 10
—Employee Statement Supplementing Railroad Accident Report (Part II Form FRA 6180.78) | Railroad employees | 75 statements | 1.5 hours | 113
—Employee Confidential Letter | Railroad employees | 10 letters | 2 hours | 20
225.13—Late Reports—RR Discovery of Improperly Omitted Report of Accident/Incident | 763 railroads | 25 late reports | 1 hour | 25
—RR Late/Amended Report of Accident/Incident Based on Employee Statement Supplementing RR Accident Report | 763 railroads | 50 amended reports + 40 copies | 1 hour + 3 minutes | 52
225.18—RR Narrative Report of Possible Alcohol/Drug Involvement in Accident/Incident | 763 railroads | 80 reports | 30 minutes | 40
—Reports Required by Section 219.209(b) Appended to Rail Equipment Accident/Incident Report | 763 railroads | 5 reports | 30 minutes | 3
225.19—Rail-Highway Grade Crossing Accident/Incident Report—Form FRA F 6180.57 | 763 railroads | 2,880 forms | 2 hours | 5,760
—Death, Injury, or Occupational Illness (Form FRA F 6180.55a) | 763 railroads | 12,638 forms | 20 min./50 min 60 min. | 4,912
225.21—Railroad Injury and Illness Summary: Form FRA F 6180.55 | 763 railroads | 8,616 forms | 10 minutes | 1,436
225.21—Annual Railroad Report of Employee Hours and Casualties, By State—Form FRA F 6180.56 | 763 railroads | 763 forms | 15 minutes | 191
225.21/25—Railroad Employee Injury and/or Illness Record—Form FRA F 6180.98 | 763 railroads | 18,900 forms | 60 minutes | 18,900
—Copies of Forms to Employees | 763 railroads | 567 form copies | 2 minutes | 19
225.21—Initial Rail Equipment Accident/Incident Record—Form FRA F 6180.97 | 763 railroads | 18,200 forms | 30 minutes | 9,100
—Completion of Form FRA F 6180.97 because of Rail Equipment Involvement | 763 railroads | 1 form | 30 minutes | 1
225.21—Alternative Record for Illnesses Claimed to Be Work Related—Form FRA F 6180.107 | 763 railroads | 300 forms | 75 minutes | 375
225.21—Railroad Accident/Incident Notification and Initial Investigation Report—Form FRA F 6180.39i | 763 railroads | 1,000 forms | 90 minutes | 1,500
225.21—Highway User Statement—RR Cover Letter and Form FRA F 6180.150 sent out to Potentially Injured Travelers Involved in a Highway-Rail Grade Crossing Accident/Incident | 763 railroads | 950 Letters/forms | 50 minutes | 792
—Form FRA F 6180.150 Completed by Highway User and Sent Back to Railroad | 950 Injured Individuals | 665 forms | 45 minutes | 499
225.25(h)—Posting of Monthly Summary | 763 railroads | 8,616 lists | 16 minutes | 2,298
225.27—Retention of Records | 763 railroads | 18,900 records | 2 minutes | 630
—Record of Form FRA F 6180.107 | 763 railroads | 300 records | 2 minutes | 10
—Record of Monthly Lists | 763 railroads | 8,616 records | 2 minutes | 288
—Record of Form FRA F 6180.97 | 763 railroads | 18,200 records | 2 minutes | 607
—Record of Employee Human Factor Attachments | 763 railroads | 2,675 records | 2 minutes | 89
—RR Electronic Recordkeeping Systems—Changes to Conform to FRA Requirements | 18 railroads | 18 modified systems | 120 hours | 2,160
225.33—Internal Control Plans—Amendments | 763 railroads | 25 amendments | 14 hours | 350
225.35—Access to Records and Reports | 15 railroads | 400 lists | 20 minutes | 133
—Subsequent Years | 4 railroads | 16 lists | 20 minutes | 5
225.37—Optical Media Transfer of of Reports, Updates, and Amendments | 8 railroads | 200 transfers | 3 minutes | 10
—Electronic Submission of Reports, Updates, and Amendments | 763 railroads | 2,400 submissions | 3 minutes | 120

Total Responses: 139,791.

Estimated Total Annual Burden: 59,443 hours.

Status: Extension of a Currently Approved Collection.

OMB Control Number: 2130-0524.

Abstract: The Federal Railroad Administration (FRA) amended its radio standards and procedures to promote compliance by making the regulations more flexible; to require wireless communications devices, including radios, for specified classifications of railroad operations and roadway workers; and to re-title this part to reflect its coverage of other means of wireless communications such as cellular telephones, data radio terminals, and other forms of wireless communications to convey emergency and need-to-know information. The new rule establishes safe, uniform procedures covering the use of radio and other wireless communications within the railroad industry.

Form Number(s): N/A.

Affected Public: Businesses.

Respondent Universe: 763 railroads.

Frequency of Submission: On occasion; annually.

Reporting Burden
CFR Section | Respondent universe | Total annual responses | Average time per response | Total annual burden hours
220.8—Waivers Petitions | 763 railroads | 6 petition letters | 60 minutes | 6
220.25—Instruction of Employees | 763 railroads | 91,000 instructed employees | 30 minutes | 45,500
—Subsequent Years | 763 railroads | 12,5400 instructed employees | 30 minutes | 6,270
—Operational Testing of Employees | 763 railroads | 100,000 tests/record | 5 minutes | 8,333
220.37—Testing Radio/Wireless Communication Equipment | 763 railroads | 780,000 tests | 30 seconds | 6,500
220.61—Transmission of Mandatory Directive | 763 railroads | 7,200,000 directives | 1.5 minutes | 180,000
—Marking Man. Dir | 763 railroads | 624,000 marks | 15 seconds | 2,600
220.307—Use of RR Supplied Electronic Devices: Amended RR Code | 763 railroads | 763 amended codes | 60 minutes | 763
—RR Written Document Stating Authorized Business Purpose for Taking Video/Photo with RR Supplied Electronic Device | 763 railroads | 50 written documents | 60 minutes | 50
—Safety Briefing for Use of RR Supplied Electronic Device in Cab of Controlling Locomotive | 763 railroads | 5,460,000 briefings | 1 minute | 91,000
220.313—Railroad Written Program of Instruction and Examination on Part 220 Requirements | 763 railroads | 763 amended written Instruction Programs | 60 minutes | 763
—Training of RR Employees on Part 220 Requirements | 91,000 Employees | 91,000 Trained Employees | 15 minutes | 22,750
—Employee Training Records | 91,000 Employees | 91,000 records | 5 minutes | 7,583
—Approval Process: FRA Disapproval of RR Program of Instruction and Examination | 763 railroads | 6 revised/amended programs | 60 minutes | 6

Total Responses: 14,451,128.

Estimated Total Annual Burden: 372,124 hours.

Status: Extension of a Currently Approved Collection.

OMB Control Number: 2130-0557.

Abstract: The Federal Railroad Administration (FRA) and the Surface Transportation Board (STB), working in conjunction with each other, have issued joint final rules establishing procedures for the development and implementation of safety integration plans (“SIPs” or “plans”) by a Class I railroad proposing to engage in certain specified merger, consolidation, or acquisition of control transactions with another Class I railroad, or a Class II railroad with which it proposes to amalgamate operations. The scope of the transactions covered under the two rules is the same. FRA uses the information collected, notably the required SIPs, to maintain and promote a safe rail environment by ensuring that affected railroads (Class Is and some Class IIs) address critical safety issues unique to the amalgamation of large, complex railroad operations.

Form Number(s): N/A.

Affected Public: Railroads.

Respondent Universe: Class I Railroads.

Frequency of Submission: On occasion.

CFR Section | Respondent universe | Total annual responses | Average time per response | Total annual burden hours | Total annual burden cost
244.13—Safety Integration Plans:
Amalgamation of Operations—SIP Development & Quarterly Meetings | 8 railroads | 1 plan | 340 hours | 340 | $24,016
244.17—Procedures | 8 railroads | 25 reports | 40 hours/2 hours | 88 | 5,632
—Responses to FRA Inquiries Re: SIP data | 8 railroads | 6 responses | 8 hours | 48 | 3,072
—Coordination in Implementing Approved SIP | 8 railroads | 25 phone calls | 10 minutes | 4 | 256
hh—Request for Confidential Treatment | 8 railroads | 1 request | 16 hours | 16 | 2,512
244.19—Disposition—Comments on Proposed SIP Amendments | 8 railroads | 2 reports | 16 hours | 32 | 2,048

Total Responses: 60.

Estimated Total Annual Burden: 528 hours.

Status: Extension of a Currently Approved Collection.

Title: Confidential Close Call Reporting System Evaluation-Related Interview Data Collection.

OMB Control Number: 2130-0574.

Abstract: In the U.S. railroad industry, injury rates have been declining over the last 25 years. Indeed, the industry incident rate fell from a high of 12.1 incidents per 100 workers per year in 1978 to 3.66 in 1996. As the number of incidents has decreased, the mix of causes has also changed toward a higher proportion of incidents that can be attributed to human and organizational factors. This combination of trends—decrease in overall rates but increasing proportion of human factors-related incidents—has left safety managers with a need to shift tactics in reducing injuries to even lower rates than they are now.

In recognition of the need for new approaches to improving safety, FRA has instituted the Confidential Close Call Reporting System (C³RS). The operating assumption behind C³RS is that by assuring confidentiality, employees will report events which, if dealt with, will decrease the likelihood of accidents. C³RS, therefore, has both a confidential reporting component, and a problem analysis/solution component. C³RS is expected to affect safety in two ways. First, it will lead to problem solving concerning specific safety conditions. Second, it will engender an organizational culture and climate that supports greater awareness of safety and a greater cooperative willingness to improve safety.

If C³RS works as intended, it could have an important impact on improving safety and safety culture in the railroad industry. While C³RS has been developed and implemented with the participation of FRA, railroad labor, and railroad management, there are legitimate questions about whether it is being implemented in the most beneficial way, and whether it will have its intended effect. Further, even if C³RS is successful, it will be necessary to know if it is successful enough to implement on a wide scale. To address these important questions, FRA is implementing a formative evaluation to guide program development, a summative evaluation to assess impact, and a sustainability evaluation to determine how C³RS can continue after the test period is over. The evaluation is needed to provide FRA with guidance as to how it can improve the program, and how it might be scaled up throughout the railroad industry.

Program evaluation is an inherently data driven activity. Its basic tenet is that as change is implemented, data can be collected to track the course and consequences of the change. Because of the setting in which C³RS is being implemented, that data must come from the railroad employees (labor and management) who may be affected. Critical data include beliefs about safety and issues related to safety, and opinions/observations about the operation of C³RS.

The current study is a five-year demonstration project to improve rail safety, and is designed to identify safety issues and propose corrective action based on voluntary reports of close calls submitted to the Bureau of Transportation Statistics. Because of the innovative nature of this program, FRA is implementing an evaluation to determine whether the program is succeeding, how it can be improved and, if successful, what is needed to spread the program throughout the railroad industry. Interviews to evaluate the close call reporting system are being conducted with two groups: (1) Key stakeholders to the process (e.g., FRA officials, industry labor, and carrier management within participating railroads); and (2) Employees in participating railroads who are eligible to submit close call reports to the Confidential Close Call Reporting System. Different questions are addressed to each of these two groups. Interviews are semi-structured, with follow-up questions asked as appropriate depending on the respondent's initial answer.

The confidentiality of the interview data is protected by the Privacy Act of 1974. FRA fully complies with all laws pertaining to confidentiality, including the Privacy Act. Thus, information obtained by or acquired by FRA's contractor, the Volpe Center, from key stakeholders and railroad employees will be used strictly for evaluation purposes. None of the information that might be identifying will be disseminated or disclosed in any way. In addition, the participating railroad sites involved will require Volpe to establish a non-disclosure agreement that prohibits disclosure of company confidential information without the carrier's authorization. Also, the data are protected under the Department of Transportation regulation Title 49 CFR Part 9, which is in part concerned with the Department involvement in proceedings between private litigants. According to this statute, if information is subpoenaed, Volpe and Volpe contractors cannot “provide testimony or produce any material contained in the files of the Department, or disclose any information or produce any material acquired as part of the performance of that employee's official duties or because of that employee's official duty status” unless authorized by agency counsel after determining that, in legal proceedings between private litigants, such testimony would be in the best interests of the Department or that of the United States Government if disclosed. Finally, the name of those interviewed will not be requested.

Form Number(s): FRA F 6180.126A; FRA F 6180.126B.

Affected Public: Railroad Employees and Key Non-railroad Stakeholders.

Respondent Universe: 300 Select Railroad Employees/Non-railroad Stakeholders.

Frequency of Submission: On occasion.

Collection instrument | Respondent universe | Total annual responses | Average time per response (minutes) | Total annual burden hours
Form FRA F 6180.126A | 300 Individuals | 220 forms | 60 | 220
Form FRA F 6180.126B | 300 Individuals | 60 forms | 60 | 60

Total Responses: 280.

Estimated Annual Burden: 280 hours.

Status: Extension of a Currently Approved Collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Rebecca Pennington,
Chief Financial Officer.

[FR Doc. 2013-22394 Filed 9-13-13; 8:45 am]

BILLING CODE 4910-06-P